DEPARTMENT OF ENERGY

10 CFR Part 609

[DOE-HQ-2025-0174]

RIN 1901-AB72

Energy Dominance Financing Amendments

AGENCY: Loan Programs Office, Department of Energy (DOE).

ACTION: Interim final rule; request for comments.

SUMMARY: This interim final rule amends the Department of Energy's loan guarantee regulations to implement the Energy Dominance Financing provisions of the One Big Beautiful Bill Act. This interim final rule expands the definition, criteria, and requirements of certain eligible projects under the loan guarantee program, and makes revisions for clarity, organization, and conformance with the recent enactment.

DATES: This interim final rule is effective October 28, 2025. DOE will accept comments, data, and information regarding this interim final rule no later than December 29, 2025.

ADDRESSES: Interested persons may submit comments, identified by RIN 1901-AB72 by any of the following methods:

Federal eRulemaking Portal: www.regulations.gov. Follow the instructions for submitting comments.

Electronic Mail (Email): LPO.IFR@hq.doe.gov. Include RIN 1901-AB72 in the subject line of the message.

Postal Mail: Loan Programs Office, Attn: LPO Legal Department, U.S. Department of Energy, 1000 Independence Avenue SW, Washington, DC 20585-0121. Please submit one signed original paper copy. Due to potential delays in DOE's receipt and processing of mail sent through the U.S. Postal Service, we encourage respondents to submit comments electronically to ensure timely receipt.

Hand Delivery/Courier: U.S. Department of Energy, Room 4B-122, 1000 Independence Avenue SW, Washington, DC 20585-0121.

No telefacsimiles (faxes) will be accepted. For detailed instructions on submitting comments and additional information on the rulemaking process, see section III of this document, Public Participation.

Docket: The docket for this rulemaking, which includes Federal Register notices, comments, and other supporting documents and materials, is available for review at www.regulations.gov. All documents in the docket are listed in the www.regulations.gov index. However, some documents listed in the index, such as those containing information that is exempt from public disclosure, may not be publicly available.

The docket web page can be found at the www.regulations.gov web page associated with RIN 1901-AB72, or at www.regulations.gov/docket/DOE-HQ-2025-0174. The docket web page contains simple instructions on how to access all documents, including public comments, in the docket. See section III of this document, Public Participation, for information on how to submit comments through www.regulations.gov.

FOR FURTHER INFORMATION CONTACT:

Ms. Chelsea Sexton, Program Officer, U.S. Department of Energy, 1000 Independence Avenue SW, Washington, DC 20585-0121, email: LPO.IFR@hq.doe.gov, or telephone: (202) 586-1092.

Mr. Uchechukwu “Emeka” Eze, Attorney-Advisor, U.S. Department of Energy, 1000 Independence Avenue SW, Washington, DC 20585-0121, email: LPO.IFR@hq.doe.gov, or telephone: (202) 586-1092.

SUPPLEMENTARY INFORMATION:

Table of Contents

I. Introduction

A. One Big Beautiful Bill Act

B. 10 CFR Part 609 Background

II. Discussion

A. Interim Final Rule Overview

B. Section-by-Section Analysis

III. Public Participation

IV. Procedural Requirements

A. Executive Order 12866 and Executive Order 14192

B. Administrative Procedure Act

C. Regulatory Flexibility Act

D. Paperwork Reduction Act of 1995

E. National Environmental Policy Act of 1969

F. Executive Order 12988

G. Executive Order 13132

H. Executive Order 13175

I. Unfunded Mandates Reform Act of 1995

J. Treasury and General Government Appropriations Act of 1999

K. Treasury and General Government Appropriations Act, 2001

L. Executive Order 13211

M. Congressional Review Act

V. Approval of the Office of the Secretary

I. Introduction

A. One Big Beautiful Bill Act

The Department of Energy's (“DOE”) Loan Programs Office (“LPO”) administers Title XVII of the Energy Policy Act of 2005 (“Title XVII”).¹ Since its initial enactment, Congress has made substantial amendments to Title XVII, including through the Infrastructure Investment and Jobs Act (“IIJA”) ² and the Inflation Reduction Act of 2022 (“IRA”).³ For example, section 50144 of the IRA amended Title XVII to introduce a loan guarantee program (“section 1706”) for projects that (1) retool, repower, repurpose, or replace energy infrastructure that has ceased operations, or (2) enable operating energy infrastructure to avoid, reduce, utilize, or sequester air pollutants, including anthropogenic greenhouse gas emissions.⁴ More recently, Congress passed and the President signed into law the One Big Beautiful Bill Act (“OBBBA”) on July 4, 2025, which includes substantial amendments to section 1706, and Title XVII.⁵

¹ Public Law 109-58, title XVII (2005), as amended; 42 U.S.C. 16511 et seq.

² Public Law 117-58 (2021).

³ Public Law 117-169 (2022).

⁴ Id. at Sec. 50144(c).

⁵ Public Law 119-21, Sec. 50403 (2025).

The Energy Dominance Financing provisions of OBBBA amended section 1706 to now authorize the Secretary of Energy (“Secretary”) to guarantee loans of up to a total principal amount of $250 billion through September 30, 2028. Additionally, the Energy Dominance Financing provisions amended the definitions and criteria used to determine section 1706 eligible projects and eliminated certain section 1706 application and project requirements.

The cumulative effect of the Energy Dominance Financing amendments to Title XVII is a material expansion of the types of projects eligible for loan guarantees from DOE. DOE is therefore revising 10 CFR part 609 (“part 609”) through this interim final rule (“IFR”) and requesting comments to implement the Title XVII Loan Guarantee Program, as modified, and fully and timely meet the ambitious timeline of guaranteeing loans under section 1706 prior to expiration. DOE is also modifying the colloquial name of section 1706 projects from Energy Infrastructure Reinvestment (“EIR”) to Energy Dominance Financing (“EDF”) projects. Section 1706 is still entitled: “Energy infrastructure reinvestment financing;” however, this rebranding is meant to reflect the material changes to the loan program established by OBBBA, as well as the type and volume of projects DOE anticipates.

B. 10 CFR Part 609 Background

Title XVII, as amended, provides the Secretary the authority to issue loan guarantees for certain eligible projects, including innovative energy projects and energy infrastructure reinvestment projects.⁶ DOE has administered the Title XVII Loan Guarantee Program pursuant to its regulations set forth at part 609, as required by the authorizing statute.⁷ Part 609 sets forth the policies and procedures that DOE uses for the application process, which includes receiving, evaluating, and approving applications for loan guarantees to support eligible projects under Title XVII.⁸ Part 609 applies to all applications, conditional commitments, and loan guarantee agreements under the Title XVII Loan Guarantee Program and provides specific guidance to program applicants regarding eligibility for the program, the loan guarantee application process and requirements, criteria for DOE's evaluation of applications, and the process for negotiation and execution of a loan guarantee agreement term sheet, conditional commitment, and loan guarantee agreement. Part 609 also describes the terms applicable to the loan guarantee.

⁶ Public Law 109-58, title XVII (2005), as amended; 42 U.S.C. 16511 et seq.

⁷ 42 U.S.C. 16515(b), (d).

⁸ DOE has historically provided additional guidance to applicants and established requirements applicable to the Title XVII Loan Guarantee Program in the solicitations for loan guarantee applications, which are issued and updated from time to time.

Following DOE's issuance of initial guidelines and an initial solicitation for pre-applications for the program in 2006, DOE promulgated the original part 609 to implement and issue loan guarantees under the program in 2007.⁹ In 2009, DOE amended part 609 to accommodate additional flexibility regarding liens and other collateral utilized for securing guaranteed loans.¹⁰ DOE subsequently amended part 609 in 2011 to address the submission and treatment of trade secrets and other privileged commercial or financial information ¹¹ and in 2012 to incorporate certain statutory changes to section 1702 of Title XVII ¹² related to payment of credit subsidy costs.¹³

⁹ 72 FR 60116 (Oct. 23, 2007).

¹⁰ 74 FR 63544 (Dec. 4, 2009).

¹¹ 76 FR 26579 (May 9, 2011).

¹² 42 U.S.C. 16512.

¹³ 77 FR 29853 (May 21, 2012).

In 2016, DOE promulgated additional amendments to part 609 to provide increased clarity and transparency, reduce paperwork, and provide a more workable interpretation of certain statutory provisions in light of DOE's experience with operation of the Title XVII program.¹⁴ These amendments included removing a pre-application process and adopting a Part I and Part II application process, clarifying certain application limitations on technologies and locations, implementing the Risk-Based Charge, and a number of additional changes.

¹⁴ 81 FR 90699 (Dec.15, 2016).

In 2021, DOE amended part 609 to incorporate directives from Executive Order 13953 to clarify the eligibility of projects related to “Critical Minerals,” “Critical Minerals Production,” and related activities.¹⁵ And in 2023, DOE substantially amended part 609 to implement provisions of the IRA that expanded or modified the authorities applicable to the Title XVII Loan Guarantee Program.¹⁶ Specifically, DOE established regulations necessary to implement the Energy Infrastructure Reinvestment (“EIR”) projects (and other categories of projects) authorized by the IRA for Title XVII loan guarantees; amended provisions to conform with the broader changes to the Title XVII Loan Guarantee Program; and revised certain sections for clarity and organization.¹⁷

¹⁵ 86 FR 3747 (Jan. 15, 2021).

¹⁶ 88 FR 34419 (May 30, 2023).

¹⁷ Id.

II. Discussion

A. Interim Final Rule Overview

This IFR amends the DOE loan guarantee regulations, set forth in part 609, to implement the Energy Dominance Financing provisions of the OBBBA. This IFR expands the definition and criteria of eligible projects under section 1706; and revises certain sections for clarity, organization, and conformance with the recent enactment. DOE has determined that it is imperative to put these IFR provisions in place for potential EDF-eligible projects, concurrent with the solicitation of public comment, to meet the ambitious timeline of guaranteeing loans under section 1706 prior to expiration of DOE's commitment authority. Those provisions not impacted or otherwise amended by the OBBBA remain in full force and effect.

Through publication of this IFR, DOE is also providing a comment period until December 29, 2025. Comments submitted during this period will be reviewed and considered. A final rule, or additional notice, may be issued at a later date, with a response to comments, reflecting any experience DOE may gain in implementing this IFR.

B. Section-by-Section Analysis

The amendments in this IFR essentially revise three sections of part 609 to conform the Title XVII Loan Guarantee Program with the OBBBA and otherwise implement its Energy Dominance Financing provisions. Provided below is a section-by-section analysis of the changes made by this IFR.

§ 609.2 Definitions

Prior to passage of the OBBBA, energy infrastructure meant “a facility, and associated equipment, used for: (1) The generation or transmission of electric energy; or (2) The production, processing, and delivery of fossil fuels, fuels derived from petroleum, or petrochemical feedstocks.” ¹⁸

¹⁸ 10 CFR 609.2; 88 FR 34429.

As prescribed by statute, DOE is now revising part 609 to define Energy Infrastructure to mean “a facility, and associated equipment, used for enabling the identification, leasing, development, production, processing, transportation, transmission, refining, and generation needed for energy and critical minerals.” ¹⁹

¹⁹ Public Law 119-21, Sec. 50403 (2025).

§ 609.3 Title XVII Eligible Projects

Prior to passage of the OBBBA, an eligible energy infrastructure reinvestment project was a project located in the United States that either “enables operating Energy Infrastructure to avoid, reduce, utilize, or sequester air pollutants or anthropogenic emissions of greenhouse gases;” or “[r]etools, repowers, repurposes, or replaces Energy Infrastructure that has ceased operations; provided that if such project involves electricity generation through the use of fossil fuels, such project shall be required to have controls or technologies to avoid, reduce, utilize, or sequester air pollutants and anthropogenic emissions of greenhouse gases.” ²⁰ Additionally, an eligible energy infrastructure reinvestment project could “include the remediation of environmental damage associated with Energy Infrastructure.” ²¹

²⁰ 10 CFR 609.3; 88 FR 34430.

²¹ Id.

DOE is now revising part 609 such that an eligible Energy Dominance Financing Project is a project located in the United States that, as prescribed by statute, either: “(1) retools, repowers, repurposes, or replaces Energy Infrastructure that has ceased operations; (2) enables operating Energy Infrastructure to increase capacity or output; or (3) supports or enables the provision of known or forecastable electric supply at time intervals necessary to maintain or enhance grid reliability or other system adequacy needs.” ²² As also prescribed by statute, an eligible EDF Project may continue to “include the remediation of environmental damage associated with Energy Infrastructure.”

²² Public Law 119-21, Sec. 50403 (2025).

This interim final rule expands the definition and criteria of eligible projects under the Title XVII Loan Guarantee Program to conform with the recent enactment of OBBBA. Specifically, the removal of the requirement that an eligible energy infrastructure reinvestment project “avoid, reduce, utilize, or sequester air pollutants or anthropogenic emissions of greenhouse gases,” has been directed by law. Congress has also expressly directed the removal of the requirement that an eligible energy infrastructure reinvestment project “have controls or technologies to avoid, reduce, utilize, or sequester air pollutants and anthropogenic emissions of greenhouse gases.” Similarly, Congress has expanded the eligibility of a project, under section 1706, to include one that “supports or enables the provision of known or forecastable electric supply at time intervals necessary to maintain or enhance grid reliability or other system adequacy needs.”

§ 609.5 Evaluation of Applications

Prior to passage of the OBBBA, an energy infrastructure reinvestment project application would have been denied if it failed to “include an analysis of how the proposed project will engage with and affect associated communities.” ²³

²³ 10 CFR 609.5; 88 FR 34431.

DOE is now revising part 609 to reflect OBBBA's elimination of this application requirement. However, as directed by statute, DOE will continue to require a detailed plan describing the proposed project, as well as an assurance that an electric utility Applicant will pass on any financial benefit from the Guarantee to the customers of, or associated communities served by, the electric utility (with respect to applications for EDF Projects, where the Applicant is an electric utility).

In summary, this IFR amends DOE's loan guarantee regulations, set forth in part 609, to implement the Energy Dominance Financing provisions of the OBBBA. This IFR expands the definition and criteria of eligible projects under the Title XVII Loan Guarantee Program, and makes revisions for clarity, organization, and conformance with the recent enactment. This IFR also incorporates OBBBA's elimination of the statutory provision that required an applicant to submit an analysis of how the proposed project would engage with, and affect, associated communities. This was a statutory requirement that DOE incorporated into its loan guarantee regulations to implement section 1706 projects, and its elimination has been directed by law. Given the material changes to the loan program, and the type of projects anticipated under section 1706, DOE is also modifying its references to section 1706 projects from Energy Infrastructure Reinvestment (“EIR”) projects to Energy Dominance Financing (“EDF”) projects. Those provisions not impacted or otherwise amended by the OBBBA remain in full force and effect.

III. Public Participation

DOE will accept comments, data, and information regarding this IFR on or before the date provided in the DATES section at the beginning of this IFR. Interested parties may submit comments, data, and other information using any of the methods described in the ADDRESSES section at the beginning of this document.

Submitting comments via www.regulations.gov. The www.regulations.gov web page will require you to provide your name and contact information. Your contact information will not be publicly viewable except for your first and last name(s), organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information the disclosure of which is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail also will be posted to www.regulations.gov. If you do not want your personal contact information to be publicly viewable, do not include it in your comments or any accompanying documents. Instead, provide your contact information in a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. No telefacsimiles (faxes) will be accepted.

Comments, data, and other information submitted to DOE electronically should be provided in PDF (preferred), Microsoft Word or Excel, WordPerfect, or text (ASCII) file format. Provide documents that are written in English, and that are free of any defects or viruses. Documents should not contain special characters or any form of encryption. If possible, documents should carry the electronic signature of the author.

Confidential Business Information. Pursuant to 10 CFR 1004.11, any person submitting information that they believe to be confidential and exempt by law from public disclosure should submit via email, postal mail, or hand delivery/courier two well-marked copies: One copy of the document marked “confidential” including all the information believed to be confidential, and one copy of the document marked “non-confidential” that deletes the information believed to be confidential. Submit these documents via email or on a CD, if feasible. DOE will make its own determination about the confidential status of the information and will treat it according to its determination. It is DOE's policy that all comments, including any personal information provided in the comments, may be included in the public docket, without change and as received, except for information deemed to be exempt from public disclosure.

IV. Procedural Requirements

A. Executive Order 12866 and Executive Order 14192

Section 6(a) of E.O. 12866 “Regulatory Planning and Review” requires agencies to submit “significant regulatory actions” to OIRA for review. OIRA has determined that this regulatory action does constitute a “significant regulatory action” under section 3(f) of E.O. 12866. Accordingly, this action was subject to review under that Executive Order by the Office of Information and Regulatory Affairs (“OIRA”) of the Office of Management and Budget (“OMB”). The action is economically significant under E.O. 12866. The rule implements a material change in the types of projects eligible for loan guarantees from DOE under Title XVII, affecting loan guarantees up to a total principal amount of $250 billion through September 30, 2028. As a result, both the mix of projects funded under the program and the set of borrowers securing loans under the program may change. While there is no assurance that a loan guarantee for any particular project will be realized, stakeholders within industry may change behavior given the material change of the type of projects eligible. Industry may be willing to undertake different projects than they did prior to the rule. That said, DOE has determined that the default rate is not changing. The class of potentially eligible projects has expanded, but the criteria, rules, etc. used to determine whether a project has a “reasonable prospect of repayment” (as determined by DOE in consultation with Treasury) has not changed.

This IFR has also been determined to be an “E.O. 14192 deregulatory action” under E.O. 14192, “Unleashing Prosperity Through Deregulation,” 90 FR 9065 (February 6, 2025) because it eliminates the loan application requirement to submit “an analysis of how the proposed project will engage with and affect associated communities.” As previously stated, this application requirement was introduced by the IRA and incorporated into part 609. 88 FR 34419 (May 30, 2023). Therefore, prior to passage of the OBBBA, an energy infrastructure reinvestment project application would have been denied if it failed to include an analysis of how the proposed project will engage with and affect associated communities. DOE previously estimated “14 hours per response” for the inclusion of information regarding an applicant's community benefits plan; and “89 respondents” to the information collection request annually. Id. at 88 FR 34426. This IFR eliminates the application requirement, and associated burdens, from part 609, making it a E.O. 14192 deregulatory action.

B. Administrative Procedure Act

Section 553(a)(2) of the Administrative Procedure Act (“APA”) exempts rulemakings that involve matters relating to public property, loans, grants, benefits, or contracts from the APA's notice and comment procedures. As a rulemaking relating to the issuance of loans, DOE has determined that a notice of proposed rulemaking (and comment thereon) or delay in effective date is not required for this IFR's amendments to part 609. Though DOE has determined that a notice of proposed rulemaking (and comment thereon) is not required for this IFR's amendments to part 609, DOE has nevertheless voluntarily elected to solicit comment. DOE will accept comments, data, and information regarding this IFR on or before the date provided in the DATES section at the beginning of this IFR. Interested parties may submit comments, data, and other information using any of the methods described in the ADDRESSES section at the beginning of this document. Comments submitted during this period will be reviewed and considered. A final rule, or additional notice, may be issued at a later date, with a response to comments, reflecting any experience DOE may gain in implementing this IFR.

C. Regulatory Flexibility Act

The Regulatory Flexibility Act (5 U.S.C. 601 et seq.) requires that an agency prepare an initial regulatory flexibility analysis whenever an agency is required by section 553 of this title, or any other law, to publish general notice of proposed rulemaking for any proposed rule. However, as noted above, and in prior part 609 rulemakings, DOE is not required to publish a general notice of proposed rulemaking for this matter, relating to public loans, under the Administrative Procedure Act. DOE has therefore determined that the regulatory flexibility analysis is inapplicable.

D. Paperwork Reduction Act of 1995

The information collection requirements for the DOE regulations at 10 CFR part 609 pursuant to the Paperwork Reduction Act of 1995 (44 U.S.C. 3501 et seq.) and the procedure implementing that Act (5 CFR 1320.1 et seq.) are under OMB Control Number 1910-5134. As previously stated, this IFR eliminates the loan application requirement to submit “an analysis of how the proposed project will engage with and affect associated communities.” Therefore, DOE will be submitting a revision to its information collection request.

E. National Environmental Policy Act of 1969 (“NEPA”)

DOE has considered this IFR in accordance with NEPA, as amended, DOE's NEPA implementing regulations, set forth in 10 CFR part 1021, and DOE's NEPA implementing procedures published outside the Code of Federal Regulations on June 30, 2025. DOE has determined that NEPA does not apply to this action as this IFR is an administrative and routine action excepted from NEPA review, and is necessary to bring DOE's loan guarantee regulations into conformance with the recent enactment of OBBBA. DOE has determined that this rulemaking is a Federal action, but it is not “major” and therefore not subject to NEPA. This action is one to which NEPA does not apply because it does not fall within the definition of “major Federal action” in section 110(10) of NEPA, 42 U.S.C. 4336e(10). For more information, please see appendix A of 10 CFR part 1021 (“A5, Interpretive rulemakings with no change in environmental effect”) and appendix A of DOE's NEPA implementing procedures, A5, Interpretive rulemakings with no change in environmental effect (June 30, 2025).

F. Executive Order 12988

With respect to the review of existing regulations and the promulgation of new regulations, section 3(a) of Executive Order 12988, “Civil Justice Reform,” 61 FR 4729 (February 7, 1996), imposes on executive agencies the general duty to adhere to the following requirements: (1) eliminate drafting errors and ambiguity; (2) write regulations to minimize litigation; and (3) provide a clear legal standard for affected conduct rather than a general standard and promote simplification and burden reduction.

With regard to the review required by section 3(a), section 3(b) of Executive Order 12988 specifically requires, in pertinent part, that executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General.

Section 3(c) of Executive Order 12988 requires Executive agencies to review regulations in light of applicable standards in section 3(a) and section 3(b) to determine whether they are met or it is unreasonable to meet one or more of them.

DOE has completed the required review and determined that, to the extent permitted by law, this rule meets the relevant standards of Executive Order 12988.

G. Executive Order 13132

Executive Order 13132, “Federalism,” ²⁴ imposes certain requirements on agencies formulating and implementing policies or regulations that preempt State law or that have federalism implications. Agencies are required to examine the constitutional and statutory authority supporting any action that would limit the policymaking discretion of the States and to carefully assess the necessity for such actions. The executive order also requires agencies to have an accountable process to ensure meaningful and timely input by State and local officials in the development of regulatory policies that have federalism implications. On March 14, 2000, DOE published a statement of policy describing the intergovernmental consultation process it will follow in the development of such regulations.²⁵

²⁴ 64 FR 43255 (Aug. 10, 1999).

²⁵ 65 FR 13735 (Mar. 14, 2000).

DOE has examined this IFR and has determined that it will not preempt State law and will not have a substantial direct effect on the States, on the relationship between the national government and the States, or on the distribution of power and responsibilities among the various levels of government. Accordingly, no further action is required by Executive Order 13132.

H. Executive Order 13175

Under Executive Order 13175, “Consultation and Coordination with Indian Tribal Governments,” ²⁶ DOE may not issue a discretionary rule that has Tribal implications and imposes substantial direct compliance costs on Indian Tribal governments without prior Tribal consultation. DOE has determined that this IFR will not have such effects and has concluded that Executive Order 13175 does not apply to this IFR.

²⁶ 65 FR 67249 (Nov. 9, 2000).

I. Unfunded Mandates Reform Act of 1995

Title II of the Unfunded Mandates Reform Act of 1995 (“UMRA”) ²⁷ requires each Federal agency to provide a written statement assessing the effects of Federal regulatory actions on State, local, and tribal governments and the private sector that may cause the expenditure by State, local, and tribal governments, in the aggregate, or by the private sector of $100 million or more in any one year (adjusted annually for inflation), before promulgating any general notice of proposed rulemaking, and before promulgating any final rule for which a general notice of proposed rulemaking was published. As noted above, and in prior part 609 rulemakings, DOE is not required to publish a general notice of proposed rulemaking for this matter, relating to public loans, under the Administrative Procedure Act. DOE notes, however, that this IFR contains neither an intergovernmental mandate nor a mandate that may result in the expenditure of $100 million or more in any year by State, local, and tribal governments, in the aggregate, or by the private sector. This IFR establishes only requirements that are a condition of Federal assistance or a duty arising from participation in a voluntary program. Accordingly, no further assessment or analysis is required under UMRA.

²⁷ Public Law 104-4 (Mar. 22, 1995).

J. Treasury and General Government Appropriations Act of 1999

Section 654 of the Treasury and General Government Appropriations Act, 1999 ²⁸ requires Federal agencies to issue a Family Policymaking Assessment for any proposed rule that may affect family well-being. This IFR will not have any impact on the autonomy or integrity of the family as an institution. Accordingly, DOE has concluded that it is not necessary to prepare a Family Policymaking Assessment.

²⁸ Public Law 105-277 (1998); 5 U.S.C. 601 note.

K. Treasury and General Government Appropriations Act, 2001

Section 515 of the Treasury and General Government Appropriations Act, 2001 ²⁹ provides for Federal agencies to review most disseminations of information to the public under guidelines established by each agency pursuant to general guidelines issued by OMB. OMB's guidelines were published at 67 FR 8452 (February 22, 2002), and DOE's guidelines were published at 67 FR 62446 (October 7, 2002). Pursuant to OMB Memorandum M-19-15, “Improving Implementation of the Information Quality Act” (April 24, 2019), DOE published updated guidelines which are available at: www.energy.gov/sites/prod/files/2019/12/f70/DOE%20Final%20Updated%20IQA%20Guidelines%20Dec%202019.pdf.

²⁹ Public Law 106-554 (2000); 44 U.S.C. 3516 note.

DOE has reviewed this IFR under the OMB and DOE guidelines and has concluded that it is consistent with applicable policies in those guidelines.

L. Executive Order 13211

Executive Order 13211, “Actions Concerning Regulations That Significantly Affect Energy Supply, Distribution, or Use,” ³⁰ requires Federal agencies to prepare and submit to the OMB, a Statement of Energy Effects for any proposed significant energy action. A “significant energy action” is defined as any action by an agency that promulgates or is expected to lead to the promulgation of a final rule or regulation, and that: (1)(i) is a significant regulatory action under Executive Order 12866, or any successor order; and (ii) is likely to have a significant adverse effect on the supply, distribution, or use of energy, or (2) is designated by the Administrator of OIRA as a significant energy action. For any proposed significant energy action, the agency must give a detailed statement of any adverse effects on energy supply, distribution, or use should the proposal be implemented, and of reasonable alternatives to the action and their expected benefits on energy supply, distribution, and use. This regulatory action will not have a significant adverse effect on the supply, distribution, or use of energy and is therefore not a significant energy action. Accordingly, DOE has not prepared a Statement of Energy Effects.

³⁰ 66 FR 28355 (May 22, 2001).

M. Congressional Review Act

As required by 5 U.S.C. 801, DOE will report to Congress on the promulgation of this rule. The report will state that it has been determined that the rule is a “major rule” as defined by 5 U.S.C. 804(2). As this IFR amends regulations concerning loan guarantees, it is exempt from the notice-and-comment and effective date delay requirements in the Administrative Procedure Act. See 5 U.S.C. 553(a)(2). As such, and in accordance with 5 U.S.C. 808(2), this IFR will be effective upon publication.

V. Approval of the Office of the Secretary

The Secretary of Energy has approved publication of this interim final rule; request for comments.

List of Subjects in 10 CFR Part 609

Administrative practice and procedure, Energy, Loan programs, Reporting and recordkeeping requirements.

Signing Authority

This document of the Department of Energy was signed on October 16, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 24, 2025.
Treena V. Garrett,
Federal Register Liaison Officer, U.S. Department of Energy.

For the reasons stated in the preamble, DOE amends part 609 of chapter II of title 10 of the Code of Federal Regulations as set forth below:

PART 609—LOAN GUARANTEES FOR CLEAN ENERGY PROJECTS

1. The authority citation for part 609 continues to read as follows:

Authority: 42 U.S.C. 7254, 16511-16517.

2. Amend § 609.2 by:

a. Adding in alphabetical order a definition for “Energy Dominance Financing Project”;

b. Revising the definition of “Energy Infrastructure”; and

c. Removing the definition of “Energy Infrastructure Reinvestment Project”.

The revision and addition read as follows:

§ 609.2 Definitions.

* * * * *

Energy Dominance Financing Project has the meaning set forth in § 609.3.

Energy Infrastructure means a facility, and associated equipment, used for enabling the identification, leasing, development, production, processing, transportation, transmission, refining, and generation needed for energy and critical minerals.

* * * * *

3. Amend § 609.3 by:

a. Removing the words “Energy Infrastructure Reinvestment” and adding in their place the words “Energy Dominance Financing” in paragraph (a)(1)(iv) and paragraph (e) introductory text; and

b. Revising paragraph (e)(2).

The revision reads as follows:

§ 609.3 Title XVII eligible projects.

* * * * *

(e) * * *

(2) Either:

(i) Retools, repowers, repurposes, or replaces Energy Infrastructure that has ceased operations;

(ii) Enables operating Energy Infrastructure to increase capacity or output; or

(iii) Supports or enables the provision of known or forecastable electric supply at time intervals necessary to maintain or enhance grid reliability or other system adequacy needs; and

* * * * *

4. Amend § 609.5 by revising paragraph (b)(7) to read as follows:

§ 609.5 Evaluation of applications.

* * * * *

(b) * * *

(7) With respect to applications for Energy Dominance Financing Projects, where the Applicant is an electric utility, such application fails to include an assurance that Applicant will pass on the financial benefit from the Guarantee to the customers of, or associated communities served by, the electric utility; or

* * * * *

§ 609.8 [Amended]

5. Amend § 609.8(b)(2)(ii) by removing the words “Energy Infrastructure Reinvestment” and adding in their place the words “Energy Dominance Financing”.

§ 609.10 [Amended]

6. Amend § 609.10(b)(12) by removing the words “Energy Infrastructure Reinvestment” and adding in their place the words “Energy Dominance Financing”.

[FR Doc. 2025-19675 Filed 10-27-25; 8:45 am]

BILLING CODE 6450-01-P